DEPARTMENT OF TRANSPORTATION

Federal Highway Administration

Notice of Final Federal Agency Actions on Transportation Project in Washington State

AGENCY: Federal Highway Administration (FHWA), Department of Transportation (DOT).

ACTION: Notice of Limitation on Claims for Judicial Review of Actions by FHWA and other Federal agencies.

SUMMARY: This notice announces actions taken by FHWA and other agencies related to the Index-Galena Road, Milepost 6.4 to 6.9 project in Snohomish County, Washington, that are final. Project sponsor: Snohomish County. Project description: The project will repair this flood-damaged roadway. It would construct a relocated roadway that will extend from an area in proximity to the lower washout at Index-Galena Road Milepost 6.4 to an area in proximity to the upper washout at Milepost 6.9. The relocated roadway will re-establish roadway connectivity on Index-Galena Road for residences, emergency service providers, recreationists, and land managed by the U. S. Forest Service. The U.S. Forest Service is a Cooperating Agency on this project.

DATES: A claim seeking judicial review of the Federal agency actions on the listed highway project will be barred unless the claim is filed on or before October 20, 2017. If the Federal law that authorizes judicial review of a claim provides a time period of less than 150 days for filing such claim, then that shorter time period still applies.

FOR FURTHER INFORMATION CONTACT: For FHWA, contact Jeff Horton, Area Engineer, Washington Division, Federal Highway Administration, 711 S. Capitol Way, Suite 501, Olympia, WA 98501-1284, 360-753-9411, or jeff.horton@dot.gov. Regular office hours are from 8:00 a.m. to 4:30 p.m., Monday through Friday, except Federal holidays. Further information and documentation can be found at http://snohomishcountywa.gov/624/Index-Galena-Rd-MP-64-69-Index-TBD.

SUPPLEMENTARY INFORMATION: Notice is hereby given that the FHWA has taken final agency actions within the meaning of 23 U.S.C. 139(l)(1) by issuing a NEPA Finding of No Significant Impact for the Index-Galena Road, Milepost 6.4 to Milepost 6.9 project. The Environmental Assessment (EA) for the project was signed on September 6, 2016. This notice applies to all Federal agency decisions, actions, approvals, licenses, and permits made as of the issuance date of this notice and all laws under which such actions were taken, including but not limited to:

1. National Environmental Policy Act (NEPA) [42 U.S.C. 4321-4370h]

2. Federal-Aid Highway Act [23 U.S.C. 109]

3. Clean Air Act [42 U.S.C. 7401-7671(q)] (transportation conformity)

4. Section 4(f) of the Department of Transportation Act of 1966 [49 U.S.C. 303]

5. Fish and Wildlife Coordination Act [16 U.S.C. 661-667(e)]

6. Magnuson-Stevens Fishery Conservation and Management Act of 1976, [16 U.S.C. 1801-1882]

7. Section 106 of the National Historic Preservation Act of 1966, as amended [54 U.S.C. 306108]

8. Clean Water Act, 33 U.S.C. 1251-1387 (Section 404, Section 401)

9. General Bridge Act of 1946 [33 U.S.C. 525-533]

10. National Forest Management Act of 1976 [16 U.S.C. 1601-1610]

11. E.O. 11990 Protection of Wetlands

12. E.O. 11988 Floodplain Management

13. E.O. 12898 Federal Actions to Address Environmental Justice in Minority Populations and Low Income Populations

Authority: 23 U.S.C. 139(l)(1)

Issued on: May 9, 2017.
Daniel M. Mathis,
FHWA Division Administrator, Olympia, WA.

[FR Doc. 2017-10261 Filed 5-22-17; 8:45 am]

BILLING CODE 4910-RY-P